DEPARTMENT OF THE TREASURY

31 CFR Part 103

RIN 1506-AA28

Financial Crimes Enforcement Network; Anti-Money Laundering Programs for Insurance Companies; Correction

AGENCY: Financial Crimes Enforcement Network (FinCEN), Treasury.

ACTION: Proposed rule; correction.

SUMMARY: This document corrects the preamble to a proposed rule published in the Federal Register of September 26, 2002, regarding anti-money laundering programs for insurance companies. This correction clarifies that comments on the collection of information contained in the proposed rule should be received by November 25, 2002, rather than by November 12, 2002.

FOR FURTHER INFORMATION CONTACT: Office of Chief Counsel, FinCEN, (703) 905-3590.

Correction

In proposed rule FR Doc. 02-24144, beginning on page 60625 in the issue of September 26, 2002, make the following correction, in the SUPPLEMENTARY INFORMATION section. On page 60629 in the 3d column, remove the third sentence of the first paragraph under “VI. Paperwork Reduction Act,” and add in its place the following: “Comments on the collection of information should be received by November 25, 2002.”

Dated: November 5, 2002.
Cynthia L. Clark,
Deputy Chief Counsel, Financial Crimes Enforcement Network.

[FR Doc. 02-28664 Filed 11-8-02; 8:45 am]

BILLING CODE 4810-02-P